DEPARTMENT OF HEALTH AND HUMAN SERVICES

Administration on Aging

Notice of Intent To Provide Supplemental Funding

ACTION: Notice of intent to provide supplemental funding to the existing cooperative agreement (90AM3204) with the Administration on Aging and a request for a supplemental application.

SUMMARY: The Administration on Aging is announcing the availability of supplemental grant funds for the support of the Senior Medicare Program (SMP). The goal of this supplemental is a program expansion for one award to include direct Medicare fraud prevention intervention activities in high risk areas.

Funding Opportunity Title/Program Name: National Hispanic SMP (NHSMP).

Announcement Type: Proposed program expansion.

Funding Opportunity Number: Program Announcement No. HHS-2011-AoA-MP-1102.

Statutory Authority: HIPAA of 1996 (Pub. L. 104-191).

Catalog of Federal Domestic Assistance (CFDA) Number: 93.048 Discretionary Projects.

DATES: Key Dates: The deadline date for comments under this Program Announcement is December 23, 2010. Other Important dates:

1. The supplemental application due date is November 29, 2010.

2. The anticipated start date is December 2010.

3. The opening date begins on the first day of publication of this notice.

4. The expiration date is December 5, 2010.

I. Funding Opportunity Description

Since September 2008 NHCOA has operated the NHSMP providing technical assistance to all SMP projects nation-wide pertaining to Hispanic community issues. The goal of the SMP program is to prevent or reduce the billions of dollars loss annually due to Medicare/Medicaid fraud, error and abuse. The Centers for Medicare & Medicaid Services data has revealed that Medicare fraud is rampant in the Hispanic community. Hispanic older adults are especially vulnerable to Medicare fraud due to social isolation from the general population due to a combination of linguistic and cultural factors. This goal of this program expansion is to target direct intervention activities in South Florida, especially Miami and Dade counties. Intervention activities must be relevant to the unique characteristics of the older Hispanic community designed to increase awareness of the SMP program and fraud prevention.

II. Award Information

A. Purpose of the Award: Health Care Fraud Prevention Program Expansion.

B. Amount of the Award: $335,000.

C. Project Period: December 1, 2010-May 31, 2011.

III. Eligible Applicant

The National Hispanic Council on Aging.

IV. Evaluation Criteria

A. Purpose and Need for Assistance—Weight: 20 Points

Does the proposed project clearly and adequately describe the targeted population and document the need for intervention?

B. Approach, Work Plan and Activities—Weight: 30 Points

Does the proposal reflect a coherent and feasible approach for successfully addressing the identified problems? (10)

Is the project work plan clear and comprehensive? (10)

Does the applicant demonstrate experience in working with targeted population? (10)

C. Project Outcomes, Evaluation and Dissemination—Weight: 20 Points

Are the expected expansion benefits/results clear and realistic? (10)

Does the project expansion contain an evaluation component? (5)

Will results be disseminated to AoA and other interested parties? (5)

D. Level of Effort—Weight: 30 Points

Does key staff have the background, experience to carry out their designated roles? (10)

Are budget line items clearly delineated and consistent with work plan objectives? (10)

Has the applicant demonstrated the organization's capacity to implement the work plan? (10)

V. Application and Submission Requirements

A. SF 424—Application for Federal Assistance.

B. SF 424A—Budget Information.

C. Separate Budget Narrative/Justification.

D. SF 424B—Assurances. Note: Be sure to complete this form according to instructions and have it signed and date by the authorized representative (see item 18d on the SF 424).

E. Lobbying Certification.

F. Program narrative no more than five pages including the following items:

• Summary/Abstract summary page

• Expansion Proposal

• Anticipated outcome(s)

G. Work Plan.

H. The application should be submitted through grants.gov using the funding opportunity #HHS-2011-AoA-MP-1102.

VI. Application Review Information

Three Federal Reviewers external to the Office of Elder Rights will score the application.

VII. Agency Contact

Direct inquiries regarding programmatic issues to U.S. Department of Health and Human Services, Administration on Aging, Office of Elder Rights, Washington, DC 20201, telephone: Barbara Dieker, (202) 357-0139; e-mail Barbara.Dieker@aoa.hhs.gov.

Dated: November 17, 2010.
Kathy Greenlee,
Assistant Secretary for Aging.

[FR Doc. 2010-29478 Filed 11-22-10; 8:45 am]

BILLING CODE 4154-01-P